DEPARTMENT OF HOUSING AND URBAN DEVELOPMENT

[Docket No. FR-5750-N-25]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Ms. Connie Lotfi, Air Force Real Property Agency, 143 Billy Mitchell Blvd., San Antonio, TX 78226, (210) 925-3047; ARMY: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; COAST GUARD: Commandant, United States Coast Guard, Attn: Jennifer Stomber, 2100 Second St. SW., Stop 7901, Washington, DC 20593-0001; (202) 475-5609; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL. 33021; (443) 223-4639; NAVY: Mr. Steve Matteo, Department of the Navy, Asset Management Division, Naval Facilities Engineering Command, Washington Navy Yard, 1330 Patterson Ave. SW., Suite 1000, Washington, DC 20374; (202) 685-9426 (These are not toll-free numbers).

Dated: June 12, 2014.
Brian P. Fitzmaurice,
Director, Division of Community Assistance, Office of Special Needs Assistance Programs.

TITLE V, FEDERAL SURPLUS PROPERTY PROGRAM FEDERAL REGISTER REPORT FOR 06/20/2014

Suitable/Available Properties

Building

Florida

Trailer-662900B014,

RPUID 03.571, 14683, Site 01

Ft. Lauderdale FL 33314

Landholding Agency: Agriculture

Property Number: 15201420017

Status: Excess

Comments: off-site removal only; 720 sq. ft.; office; fair conditions; 4+ months vacant; contact Agriculture for more information.

Georgia

Rabbit/Mouse/Bird Holing Bldg.

661246B020; RPUID 03.54972

Athens GA 30605

Landholding Agency: Agriculture

Property Number: 15201420015

Status: Excess

Comments: off-site removal only; 386 sq. ft.; animal housing; 51+ yrs.-old; good to fair conditions; contact Agriculture for more information.

Kansas

Former SS Admin. Building

801 S. Broadway

Pittsburg KS 66762

Landholding Agency: GSA

Property Number: 54201420007

Status: Surplus

GSA Number: 7-G-KS-0529

Comments: 5,918 sq. ft.; sits on .52 acres; Admin. bldg.; 42+ yrs.-old; fair conditions; asbestos; lead-based paint; mold possible; contact GSA for more information.

Minnesota

South Annex Building

200 Ash Ave., NW

Cass Lake MN 56633

Landholding Agency: Agriculture

Property Number: 15201420014

Status: Unutilized

Comments: off-site removal only; no future agency need; 1,950 sq. ft.; 96+ months vacant; fair conditions; office; contact Agriculture for more information.

Missouri

23 Building

364 SE D Hwy

Knob Noster MO 65336

Landholding Agency: Air Force

Property Number: 18201420005

Status: Excess

Directions: 1449; 1450; 1448; 1447; 1446; 1442; 1445; 1436; 1460; 1462; 1464; 1463; 1467; 1465; 69; 46; 1451; 1452; 1453; 1454; 1455; 1456; 1459

Comments: off-site removal only; fair conditions; contact Air Force for information on a specific property and accessibility/removal request.

4008

Whiteman AFB

Whileman AFB MO 65305

Landholding Agency: Air Force

Property Number: 18201420023

Status: Excess

Comments: off-site removal only; 3,131sq.ft.; office; 33+ years old; fair to good conditions; secured area; contact Air Force for more information.

New Jersey

8544

Joint Base McGuire-Dix-Lakehurst

Ft. Dix NJ 08640

Landholding Agency: Air Force

Property Number: 18201420006

Status: Unutilized

Comments: off-site removal only; no future agency need; poor conditions; secured area; contact AF for more info.; accessibility & removal requirements.

27 Buildings

Joint Base McGuire-Dix-Lakehurst (JB MDL)

Fort Dix NJ 08640

Landholding Agency: Air Force

Property Number: 18201420030

Status: Unutilized

Directions: 9218; 9491; 94201; 94594; 98371; 98462; 98492; 9858; 9860; 98552; 9859; 8550; 8549; 8547; 8545; 8546; 8551; 9216; 9402; 9426; 9429; 9535; 9833; 9538; 8543; 8542; 8541

Comments: off-site removal only; no future agency need; dissemble required; poor conditions; secured area; contact AF for more information.

Oklahoma

280

7481 Sentry Boulevard

Tinker AFB OK 73145

Landholding Agency: Air Force

Property Number: 18201420002

Status: Excess

Comments: off-site removal only; 19,034 sq. ft.; wing HQs; roof is in poor condition; secured area; contact for accessibility; removal request.

268

7568 Sentry Boulevard

Tinker AFB OK 73145

Landholding Agency: Air Force

Property Number: 18201420008

Status: Underutilized

Comments: Off-site removal only; no future agency need; 7,311 sq. ft.; air passenger terminal; roof needs repairing; secured area; contact AF for more info.

7 Buildings

Tinker AFB

Tinker AFB OK 73145

Landholding Agency: Air Force

Property Number: 18201420050

Status: Unutilized

Directions: 1064; 7043; 7014; 7012; 7011; 7010; 7009

Comments: off-site removal only; no future agency need; poor conditions, secured area; contact AF for more information on a specific property & accessibility requirements.

Oregon

US Moorings

8010 NW St. Helens Rd.

Portland OR 97210

Landholding Agency: COE

Property Number: 31201420012

Status: Underutilized

Directions: USGOV-6705; 6706; 6718; 6715

Comments: off-site removal only; no future agency need; 15x200 for stables; 30x30 for dock hoist house; office/shop; 40% of bldgs. sits on deteriorating dock; contamination; contact COE for more info.

Texas

3 Buildings

Dyess AFB

Dyess AFB TX 79602

Landholding Agency: Air Force

Property Number: 18201420052

Status: Unutilized

Directions: 4308; 4310; 5276

Comments: off-site removal only; no future agency need; poor conditions; secured area; contact AF for more information on a specific property & accessibility requirements.

Property Item TB-26850, Toilet

5171 FM92 South

Woodville TX 75979

Landholding Agency: COE

Property Number: 31201420011

Status: Underutilized

Comments: 825 sq. ft.; waterborne restroom; 45+ yrs.-old; repairs needed; contact COE for more information.

Utah

Building 1607

6263 Hickory Avenue, Hill AFB

Hill AFB UT 84056

Landholding Agency: Air Force

Property Number: 18201420010

Status: Excess

Directions: 1607

Comments: off-site removal only; 16,050 sq. ft.; office; repairs required; secured area; contact Air Force for more information.

Virginia

Cropp House; Tract 901001

16308 Dumfries Rd.

Dumfries VA 22026

Landholding Agency: Interior

Property Number: 61201420001

Status: Excess

Comments: off-site removal only; 1,800 sq. ft.; residential; 140+ months vacant; poor conditions; asbestos; mold; lead-based paint; contact Interior for more information.

Gray House #1; Tract 02-157

11919 general Trimbles Lane

Manassas VA 20110

Landholding Agency: Interior

Property Number: 61201420002

Status: Excess

Comments: off-site removal only; 2,000 sq. ft.; due to structure type relocation may be very difficult; residential; black mold; asbestos; water damage; contact Interior for more info.

Gray House #2; Tract 01-220

6221 Featherbed Lane

Manassas VA 20110

Landholding Agency: Interior

Property Number: 61201420003

Status: Excess

Comments: off-site removal only; 2,100 sq. ft.; poor conditions; due to structure type relocation may be difficult; 4+ yrs. vacant; mold; contact Interior for more information.

Wyoming

#13545

Bow River Work Center Shop/Storage

Elk Mtn. WY

Landholding Agency: Agriculture

Property Number: 15201420016

Status: Excess

Directions: NFSR 261/NFSR 101 JUNCTION

Comments: 813 sq. ft.; storage; 108+ months vacant; floor stringer rotten; roof covering has been removed; no power; contact Agriculture for more information.

Unsuitable Properties

Building

Florida

3 Buildings

Duke Field

3025 Short Street

Duke Field FL 32542

Landholding Agency: Air Force

Property Number: 18201420007

Status: Underutilized

Directions: 3025; 3058; 3104

Comments: public access denied and no alternate without compromising national security.

Reasons: Secured Area

Alaska

57433

Joint Base Elmendorf-Richardson

57433 Stevens Road

JBER-Richardson AK 99505

Landholding Agency: Air Force

Property Number: 18201420034

Status: Underutilized

Comments: public access denied and no alternative without compromising national security.

Reasons: Secured Area

Arizona

18 Buildings

Davis Monahan

4855 S. Wickenburg Avenue

Tucson AZ 85707

Landholding Agency: Air Force

Property Number: 18201420016

Status: Underutilized

Directions: FBNV7613; FBNV7708; FBNV7713; FBNV2350; FBNV2250; FBNV3501; FBNV4065; FBNV7403; FBNV7409; FBNV7427; FBNV7431; FBNV7434; FBNV7435; FBNV7437; FBNV7446; FBNV7507; FBNV7513; FBNV7514

Comments: public access denied and no alternate without compromising national security.

Reasons: Secured Area

Arkansas

7 Buildings

Little Rock AFB

Little Rock AR 72099

Landholding Agency: Air Force

Property Number: 18201420037

Status: Unutilized

Directions: 840; 1383; 1389; 1397; 1398; 1432; 230

Comments: public access denied and no alternation without compromising national security.

Reasons: Secured Area

330

Little Rock AFB

330 Chief Williams Drive

Little Rock AR 72099

Landholding Agency: Air Force

Property Number: 18201420038

Status: Underutilized

Comments: public access denied and no alternation without compromising national security.

Reasons: Secured Area

California

4 Buildings

Vandenberg AFB

Vandenberg AFB CA 93437

Landholding Agency: Air Force

Property Number: 18201420036

Status: Unutilized

Directions: 533; 541; 11343; 21294

Comments: public access denied and no alternation without compromising national security.

Reasons: Secured Area

10 Buildings

Camp Pendleton

Camp Pendleton CA 92055

Landholding Agency: Navy

Property Number: 77201420010

Status: Excess

Directions: SS014; SS012; SS011; SS007; SS009; SS004; SS008; 14221; 31517; 53373

Comments: public access denied and no alternative method to gain access without compromising national security.

Reasons: Secured Area

3 Buildings

Camp Pendleton

Camp Pendleton CA 92055

Landholding Agency: Navy

Property Number: 77201420011

Status: Excess

Directions: 1295; 1686; 1255

Comments: public access denied and no alternative method to gain access without compromising national security.

Reasons: Secured Area

Facility No. 3434

Naval Base

San Diego CA

Landholding Agency: Navy

Property Number: 77201420013

Status: Excess

Comments: public access denied and no alternative method to gain access without compromising national security.

Reasons: Secured Area

Building 6418

Marine Corps Air Station Miramar

San Diego CA

Landholding Agency: Navy

Property Number: 77201420015

Status: Excess

Comments: public access denied and no alternative method to gain access without compromising national security.

Reasons: Secured Area

Colorado

Building 814, Backley AF Base

120 Vail Street

Building 814

Aurora CO 80011

Landholding Agency: Air Force

Property Number: 18201420012

Status: Underutilized

Comments: public access denied and no alternate without compromising national security.

Reasons: Secured Area

3 Buildings

Peterson AFB

Peterson CO 80914

Landholding Agency: Air Force

Property Number: 18201420035

Status: Unutilized

Directions: 600; 681; 1281

Comments: public access denied and no alternation without compromising national security.

Reasons: Secured Area

5229

5229 Cedar Drive

USAF Academy CO 80840

Landholding Agency: Air Force

Property Number: 18201420043

Status: Unutilized

Comments: public access denied and no alternation without compromising national security.

Reasons: Secured Area

Building 106

106 NORAD Road,

Cheyenne Mountain AFB

Colorado Springs CO 80914

Landholding Agency: Air Force

Property Number: 18201420046

Status: Unutilized

Comments: public access denied and no alternation without compromising national security.

Reasons: Secured Area

Delaware

2 Buildings

null

Dover AFB

Dover DE 19902-6600

Landholding Agency: Air Force

Property Number: 18201420041

Status: Excess

Directions: 267; 302

Comments: public access denied and no alternation without compromising national security.

Reasons: Secured Area

Florida

Building 1752

Eglin AFB

Eglin AFB FL 32542

Landholding Agency: Air Force

Property Number: 18201420009

Status: Unutilized

Comments: public access denied and no alternate without compromising national security.

Reasons: Secured Area

17 Buildings

Eglin AFB

Eglin FL 32542

Landholding Agency: Air Force

Property Number: 18201420027

Status: Underutilized

Directions: 843; 950; 964; 1242; 1243; 1317; 1331; 1353; 810; 36; 37; 38; 719; 35; 30; 8853; 8852

Comments: public access denied and no alternate without compromising national security.

Reasons: Secured Area

Indiana

Building 1892

300 Hwy 361

Crane IN 47522

Landholding Agency: Navy

Property Number: 77201420012

Status: Unutilized

Comments: public access denied and no alternative method to gain access without compromising national security.

Reasons: Secured Area

Louisiana

B-4359

745 Douhet Street

Barksdale AFB

Barksdale LA 71110

Landholding Agency: Air Force

Property Number: 18201420011

Status: Underutilized

Comments: public access denied and no alternate without compromising national security.

Reasons: Secured Area

B-7201

3702 Dunn Blvd.

Barksdale LA 71110

Landholding Agency: Air Force

Property Number: 18201420025

Status: Underutilized

Comments: public access denied and no alternate without compromising national security.

Reasons: Secured Area

B-6421

334 Davis Avenue W

Barksdale LA 71110

Landholding Agency: Air Force

Property Number: 18201420026

Status: Unutilized

Comments: property located within airport runway clear zone; public access denied and no alternate without compromising national security.

Reasons: Within airport runway clear zone; Secured Area

Maryland

2 Buildings

Joint Base Andrews

Joint Base Andrews MD 20762

Landholding Agency: Air Force

Property Number: 18201420032

Status: Unutilized

Directions: 1600; 1642

Comments: public access denied and no alternative without compromising national security.

Reasons: Secured Area

Missouri

4019

Stealth Street 100

Whileman AFB MO 65305

Landholding Agency: Air Force

Property Number: 18201420022

Status: Underutilized

Comments: public access denied and no alternate without compromising national security.

Reasons: Secured Area

3006

Whiteman AFB

323 Spirit Blvd.

Whileman AFB MO 65305

Landholding Agency: Air Force

Property Number: 18201420029

Status: Excess

Comments: public access denied and no alternative without compromising national security.

Reasons: Secured Area

Nebraska

Building 5081

2506 Roman Hruska Dr.

Offutt AFB NE 65113

Landholding Agency: Air Force

Property Number: 18201420024

Status: Excess

Comments: 100% of property located within airport runway clear zone.

Reasons: Within airport runway clear zone

New Jersey

5903 Water Tower

5903 Montelier Street

Fort Dix NJ 08640

Landholding Agency: Air Force

Property Number: 18201420028

Status: Excess

Comments: public access denied and no alternate without compromising national security.

Reasons: Secured Area

New Mexico

5 Buildings

Kirtland AFB

Kirtland NM 87117

Landholding Agency: Air Force

Property Number: 18201420039

Status: Underutilized

Directions: 378; 593; 992; 1009; 20206

Comments: public access denied and no alternation without compromising national security.

Reasons: Secured Area

New York

Bldg. 641

Hancock IAP

Syracuse NY 13211

Landholding Agency: Air Force

Property Number: 18201420004

Status: Unutilized

Comments: public access denied & no alter. w/out compromising Nat'l sec.

Reasons: Secured Area

Building 600

Hancock IAP

6001 E Molloy Road

Syracuse NY 13211

Landholding Agency: Air Force

Property Number: 18201420019

Status: Unutilized

Comments: public access denied and no alternate without compromising national security.

Reasons: Secured Area

70B

US Army Garrison

West Point NY 10996

Landholding Agency: Army

Property Number: 21201420037

Status: Excess

Comments: public access denied and no alternative method to gain access without compromising national security.

Reasons: Secured Area

Ohio

6 Buildings

Wright-Patterson AFB

Wright-Patterson AFB OH 45433

Landholding Agency: Air Force

Property Number: 18201420042

Status: Excess

Directions: 20189; 10286; 20198; 30053; 20064; 20068

Comments: public access denied and no alternation without compromising national security.

Reasons: Secured Area

Oklahoma

460

7460 Arnold Avenue

Tinker AFB OK 73145

Landholding Agency: Air Force

Property Number: 18201420045

Status: Excess

Comments: public access denied and no alternation without compromising national security.

Reasons: Secured Area

4 Buildings

Tinker AFB

Tinker AFB OK 73145

Landholding Agency: Air Force

Property Number: 18201420047

Status: Underutilized

Directions: 238; 265; 1039; 7015

Comments: buildings cannot be relocated; public access denied and no alternative method to gain access without compromising national security.

Reasons: Secured Area

8 Buildings

Tinker AFB

Tinker AFB OK 73145

Landholding Agency: Air Force

Property Number: 18201420048

Status: Excess

Directions: 1035; 1162; 1036; 1086; 1088; 1122; 1131; 3123

Comments: buildings cannot be relocated; public access denied and no alternative method to gain access w/out compromising national security.

Reasons: Secured Area

Rhode Island

Facility #346CP

Easton St.

Newport RI 02840

Landholding Agency: Navy

Property Number: 77201420014

Status: Excess

Comments: public access denied and no alternative method to gain access without compromising national security.

Reasons: Secured Area

South Carolina

Army Reserve Building

Chisolm & Broad St

196 Tradd St.

Charleston SC 29401

Landholding Agency: Coast Guard

Property Number: 88201420008

Status: Unutilized

Comments: public access denied and no alternative method to gain access without compromising national security.

Reasons: Secured Area

Tennessee

Building 241

McGhee Tyson Apartment

Louisville TN 37777

Landholding Agency: Air Force

Property Number: 18201420013

Status: Excess

Comments: public access denied and no alternate without compromising national security.

Reasons: Secured Area

18 Buildings

Davis Monahan

4855 S. Wickenburg Avenue

Tucson TN 85707

Landholding Agency: Air Force

Property Number: 18201420014

Status: Underutilized

Comments: public access denied and no alternate without compromising national security.

Reasons: Secured Area

Building 3000, HQ MAJOR CMD

320 Post Avenue

McGhee Tyson ANG Base

Louisville TN 37777

Landholding Agency: Air Force

Property Number: 18201420018

Status: Excess

Comments: public access denied and no alternate without compromising national security.

Reasons: Secured Area

Building 106, Comm Fclty

320 Post Avenue

McGhee Tyson ANG Base

Louisville TN 37777

Landholding Agency: Air Force

Property Number: 18201420021

Status: Excess

Comments: public access denied and no alternate without compromising national security.

Reasons: Secured Area

Building 2120

Arnold AFB

2120 Gossick Road

Arnold TN 37389

Landholding Agency: Air Force

Property Number: 18201420033

Status: Underutilized

Comments: public access denied and no alternative without compromising national security.

Reasons: Secured Area

Building 1433

Arnold AFB

1433 S. Fifth Street

Arnold TN 37389

Landholding Agency: Air Force

Property Number: 18201420040

Status: Unutilized

Comments: public access denied and no alternation without compromising national security.

Reasons: Secured Area

Texas

5 Buildings

Dyess AFB

Dyess AFB TX 76907

Landholding Agency: Air Force

Property Number: 18201420051

Status: Unutilized

Directions: 8032; 7422; 6112; 5019; 4317

Comments: buildings cannot be relocated; public access denied and no alternative method to gain access without compromising national security.

Reasons: Secured Area

Virginia

CEP-210

1520 Gilbert St.

Norfolk VA 23511

Landholding Agency: Navy

Property Number: 77201420017

Status: Excess

Comments: public access denied and no alternative method to gain access without compromising national security.

Reasons: Secured Area

3 Buildings

1520 Gilbert St.

Norfolk VA 23511

Landholding Agency: Navy

Property Number: 77201420018

Status: Excess

Directions: CEP66; CEP66A; CEP66B

Comments: public access denied and no alternative method to gain access without compromising national security.

Reasons: Secured Area

Land

Alaska

JBER

JBER AK 99506

Landholding Agency: Air Force

Property Number: 18201420044

Status: Underutilized

Directions: 40x40 parcel; 10.46 acres; 14.71 acres; 63.21 acres

Comments: public access denied and no alternative method to gain access without compromising national security.

Reasons: Secured Area

Oklahoma

7 Buildings

Tinker AFB

Tinker AFB OK 73145

Landholding Agency: Air Force

Property Number: 18201420049

Status: Unutilized

Directions: 1013; 7006; 7001; 1010; 1016; 1034; 7028

Comments: buildings cannot be relocated; public access denied and no alternative method to gain access without compromising national security.

Reasons: Secured Area

[FR Doc. 2014-14162 Filed 6-19-14; 8:45 am]

BILLING CODE 4210-67-P